DEPARTMENT OF ENERGY

Federal Energy Regulatory Commission

[Docket Nos. PR08-30-000, PR07-12-003, PR07-12-004]

Enterprise Texas Pipeline, LLC; Notice of Motion for Bifurcation of Issues and Deferral of Review of Rate Proposal

January 22, 2009.

On January 14, 2009, Enterprise Texas Pipeline, LLC (Enterprise Texas) filed a request to defer review of its September 30, 2008 Petition for Rate Approval. It also requests that the Commission move forward on a separate track to complete its review of and ruling on all of the matters related to the Enterprise Texas Statement of Operating Conditions (SOC) that have been raised by intervenors in the above-captioned dockets and that are the subject of certain data requests.

The request states that Enterprise Texas has experienced a delay in placing the Sherman Lateral fully into service for the performance of services pursuant to Natural Gas Policy Act section 311 and it does not anticipate charging the proposed incremental rate until some time in the future. Enterprise Texas commits that it will not charge its proposed incremental rate for any interim service on the Sherman Lateral, but rather will only charge a rate no greater than the currently effective rate for the Enterprise Texas system that was approved in Docket No. PR07-12.

Notice is hereby given that answers to the motion are due no later than January 29, 2009.

Kimberly D. Bose,
Secretary.

[FR Doc. E9-1907 Filed 1-28-09; 8:45 am]

BILLING CODE 6717-01-P